DEPARTMENT OF HEALTH AND HUMAN SERVICES

Health Resources and Services Administration

National Advisory Council on Migrant Health; Notice of Meeting

In accordance with section 10(a)(2) of the Federal Advisory Committee Act (Pub. L. 92-463), notice is hereby given of the following meeting:

Name: National Advisory Council on Migrant Health.

Dates and Times: April 28, 9 a.m. to 5 p.m.; April 29, 9 a.m. to 5 p.m.

Place: Marriott Biscayne Bay Hotel and Marina, 1633 North Bayshore Drive, Miami, Florida 33132, Phone: (305) 374-3900; Fax: (305) 375-0597.

Status: The meeting will be open to the public.

Agenda: The agenda includes an overview of general Council business activities. In addition, the Council will continue working on the Year 2004 recommendations to the Secretary.

Finally, the Council will hear presentations from experts on farmworker issues, including technical assistance for Migrant Health Centers and training for community health workers.

The Council meeting is being held in conjunction with the 2004 National Farmworker Health Conference sponsored by the National Association of Community Health Centers, which is being held in Miami, Florida, during the same period of time.

Agenda items are subject to change as priorities indicate.

For Further Information Contact: Anyone requiring information regarding the Council should contact Gladys Cate, Office of Minority and Special Populations, staff support to the National Advisory Council on Migrant Health, Bureau of Primary Health Care, Health Resources and Services Administration, 4350 East-West Highway, Bethesda, Maryland 20814, Telephone (301) 594-0367.

Dated: March 22, 2004.
Tina M. Cheatham,
Director, Division of Policy Review and Coordination.

[FR Doc. 04-6868 Filed 3-26-04; 8:45 am]

BILLING CODE 4165-15-P